DEPARTMENT OF TRANSPORTATION

14 CFR Part 71

[Docket No. FAA-2002-14179; Airspace Docket No. 02-AGL-08]

Modification of Class E Airspace; Circleville, OH; Correction

AGENCY: Federal Aviation Administration (FAA), DOT.

ACTION: Final rule; correction.

SUMMARY: This action corrects two (2) errors contained in a final rule that was published in the Federal Register on Friday, January 17, 2003 (68 FR 2422). The final rule modified Class E airspace at Circleville, OH.

EFFECTIVE DATE: 0901 UTC, March 20, 2003.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 03-1124 published on Friday, January 27, 2003 (68 FR 2422), modified Class E airspace at Circleville, OH. The Docket contained an incorrect lat./long., and also contained a misspelled city name, both contained in the legal description. This action corrects these errors.

Accordingly, pursuant to the authority delegated to me, the errors for the Class E airspace, Circleville, OH, as published in the Federal Register Friday, January 17, 2003 (68 FR 2422), (FR Doc. 03-1124), is corrected as follows:

§ 71.1 [Corrected]

On page 2422, Column 3, in the legal description:

1. On the second (2nd) line, correct: “Cillicothe” to read: “Chillicothe”.

2. On the third (3rd) line, correct: “(Lat. 39° 26′ 29″N., long. 83° 01′ 41″W.)” to read: (Lat. 39°26′29″ N., long. 83°01′21″ W.”.

Issued in Des Plaines, Illinois, on March 5, 2003.
Richard K. Petersen,
Assistant Manager, Air Traffic Division, Great Lakes Region.

[FR Doc. 03-7661 Filed 3-28-03; 8:45 am]

BILLING CODE 4910-13-M